DEPARTMENT OF THE INTERIOR

Bureau of Land Management

[ID-957-1420-BJ]

Idaho: Filing of Plats of Survey

AGENCY: Bureau of Land Management, Interior.

ACTION: Notice of filing of plats of surveys.

SUMMARY: The Bureau of Land Management (BLM) has officially filed the plats of survey of the lands described below in the BLM Idaho State Office, Boise, Idaho, effective 9 a.m., on the dates specified.

FOR FURTHER INFORMATION CONTACT: Bureau of Land Management, 1387 South Vinnell Way, Boise, Idaho, 83709-1657.

SUPPLEMENTARY INFORMATION: These surveys were executed at the request of the Bureau of Land Management to meet certain administrative and management purposes: The plat representing the dependent resurvey of portions of the subdivisional lines, and the 1895 meanders of the right bank of the Salmon River in section 10, and the subdivision of section 10, and the metes-and-bounds survey of lot 12, section 10, in T. 13 N., R. 19 E., Boise Meridian, Idaho, was accepted January 5, 2005.

The plat representing the dependent resurvey of the Second Standard Parallel North (north boundary) through portions of Ranges 3 and 4 East, and a portion of the subdivisional lines, and the subdivision of section 5, in T. 9 N., R. 4 E., Boise Meridian, Idaho, was accepted January 12, 2005.

The plat, in two sheets, constituting the entire survey record of the dependent resurvey of a portion of the west boundary and subdivisional lines, and the subdivision of section 19, in T. 12 N., R. 6 W., Boise Meridian, Idaho, was accepted January 14, 2005. The plat representing the dependent resurvey of portions of the Boise Base Line (south boundary), east and west boundaries, and the subdivisional lines, and the subdivision of sections 28, 30, 32 and 33, and the metes-and-bounds survey of a portion of the boundary of the Snake River Birds of Prey National Conservation Area, in T. 1 N., R. 2 E., Boise Meridian, Idaho, was accepted January 27, 2005.

The plat, in two sheets, constituting the entire survey record of the dependent resurvey of a portion of the north boundary, a portion of the subdivisional lines, and the subdivision of sections 5 and 6, in T. 11 S., R. 4 W., Boise Meridian, Idaho, was accepted February 9, 2005. The plat constituting the entire survey record of the dependent resurvey of a portion of the subdivisional lines and a metes-and-bounds survey of lot 1, section 26, and lot 2, section 35, in T. 9 S., R. 2 W., Boise Meridian, Idaho, was accepted February 9, 2005.

The plat, in 3 sheets, representing the dependent resurvey of portions of the north and west boundaries, a portion of the subdivisional lines, and portions of the 1957 fixed and limiting boundaries in sections 5, 7, and 8, and the subdivision of sections 5 and 7, the survey of a portion of the 1994-2000 meanders of the Snake River in sections 5, 7, and 8, and the survey of the 1994-2000 meanders of certain islands in sections 5, 7, and 8, in T. 3 S., R. 35 E., Boise Meridian, Idaho, was accepted March 23, 2005.

These surveys were executed at the request of the Bureau of Land Management to meet certain administrative needs of the Bureau of Indian Affairs. The lands surveyed are: The plat constituting the entire survey record of the metes-and-bounds survey of lot 1, section 20, in T. 44 N., R. 4 W., Boise Meridian, Idaho, was accepted February 9, 2005. The plat representing the dependent resurvey of a portion of the subdivisional lines, and the subdivision of section 8, in T. 46 N., R. 4 W., Boise Meridian, Idaho, was accepted February 22, 2005.

The plat representing the dependent resurvey of portions of the west boundary, subdivisional lines and the subdivision of section lines of sections 18 and 19, in T. 45 N., R. 4 W., Boise Meridian, Idaho was accepted March 8, 2005.

These surveys were executed at the request of the Bureau of Land Management to meet certain administrative needs of the Coeur d'Alene Indian Reservation. The lands surveyed are: The plat representing the dependent resurvey of a portion of the east boundary and the subdivisional lines and the subdivision of sections 12 and 24, in T. 44 N., R. 4 W., Boise Meridian, Idaho, was accepted March 1, 2005.

The plat representing the dependent resurvey of a portion of the east boundary, the subdivisional lines, and the subdivision of section 13, the further subdivision of section 13, and the survey of lots 4 and 5, in section 13, in T. 47 N., R. 5 W., Boise Meridian, Idaho, was accepted March 2, 2005.

The plat representing the dependent resurvey of portions of the Ninth Standard Parallel North (south boundary), the subdivisional lines, and the subdivision of sections 29, 33, and 34, and the survey of lot 1, and a metes-and-bounds survey, both in section 29, in T. 46 N., R. 5 W., Boise Meridian, Idaho, was accepted March 30, 2005.

Dated: April 5, 2005.
Jeff A. Lee,
Chief Cadastral Surveyor for Idaho.

[FR Doc. 05-7146 Filed 4-8-05; 8:45 am]

BILLING CODE 4310-GG-P